OFFICE OF THE UNITED STATES TRADE REPRESENTATIVE

Request for Comments on Additional Participants in Trade in Services Agreement

AGENCY: Office of the United States Trade Representative.

ACTION: Request for comments.

SUMMARY: On January 15, 2013, the United States Trade Representative notified Congress of the Administration's intention to enter into negotiations for a Trade in Services Agreement (TISA) with an initial group of 20 trading partners. The January 15 notification states that the group negotiating TISA “will expand as negotiations progress to include others who share our ambitious goals.” In April 2015, the TISA negotiating participants reached a consensus decision to accept Mauritius into the negotiations. The Office of the United States Trade Representative (USTR) seeks public comments regarding particular priorities with respect to the participation of Mauritius in the negotiations. Comments may be provided in writing.

DATES: Written comments are due by noon, June 8, 2015.

ADDRESSES: Submissions via on-line: http://www.regulations.gov. For alternatives to on-line submissions please contact Yvonne Jamison at (202) 395-3475.

FOR FURTHER INFORMATION CONTACT: For questions concerning requirements for written comments, please contact Yvonne Jamison at (202) 395-3475. All other questions regarding this notice should be directed to Christopher Melly at (202) 395-9581.

SUPPLEMENTARY INFORMATION: On January 15, 2013, Ambassador Kirk notified Congress of the Administration's intention to enter into the TISA negotiations. The following 20 trading partners constituted the initial group of TISA participants: Australia, Canada, Chile, Chinese Taipei, Colombia, Costa Rica, European Union on behalf of its member states, Hong Kong China, Iceland, Israel, Japan, Korea, Mexico, New Zealand, Norway, Pakistan, Panama, Peru, Switzerland, and Turkey. Paraguay and Liechtenstein joined the negotiations in September 2013. Uruguay followed in February 2015. USTR solicited public comments on the agreement through notifications published in the Federal Register on January 24, 2013 (Document number: 2013-01497), September 6, 2013 (Document number: 2013-21836), and December 17, 2014 (Document number 2014-29577). Comments received through that process may be reviewed at http://www.regulations.gov.

The Chair of the interagency Trade Policy Staff Committee (TPSC) now invites interested persons to provide written comments that will assist USTR in assessing U.S. objectives with regard to the participation of Mauritius in the negotiations. The TPSC Chair invites comments on all relevant matters, and, in particular, with regard to the nature of any existing barriers to trade in services with these markets or issues affecting the supply of services to these markets through various modes of supply and technologies.

Public Comment: Requirements for Submissions

Persons submitting written comments must do so in English and must identify (on the first page of the submission) “Trade in Services Agreement: New Participant.” In order to be assured of consideration, comments should be submitted by noon, June 8, 2015. In order to ensure the timely receipt and consideration of comments, USTR strongly encourages commenters to make on-line submissions, using the http://www.regulations.gov Web site. Comments should be submitted under the following docket: USTR-2015-0006. To find the docket, enter the docket number in the “Enter Keyword or ID” window at the http://www.regulations.gov home page and click “Search.” The site will provide a search-results page listing all documents associated with this docket. Find a reference to this notice by selecting “Notices” under “Document Type” on the search-results page, and click on the link entitled “Comment Now!” (For further information on using the http://www.regulations.gov Web site, please consult the resources provided on the Web site by clicking on the “Help” tab.)

The http://www.regulations.gov Web site provides the option of making submissions by filling in a “Type Comment” field, or by attaching a document using the “Upload File” field. USTR prefers submissions to be provided in an attached document. If a document is attached, it is sufficient to type “See attached” in the “Type Comment” field. USTR also prefers submissions in Microsoft Word (.doc) or Adobe Acrobat (.pdf). If the submission is in an application other than those two, please indicate the name of the application in the “Comments” field. For any comments submitted electronically containing business confidential information, the file name of the business confidential version should begin with the characters “BC.” Any page containing business confidential information must be clearly marked “BUSINESS CONFIDENTIAL” on the top of that page. Filers of submissions containing business confidential information must also submit a public version of their comments. The file name of the public version should begin with the character “P.” The “BC” and “P” should be followed by the name of the person or entity submitting the comments or reply comments. Filers submitting comments containing no business confidential information should name their file using the name of the person or entity submitting the comments. Please do not attach separate cover letters to electronic submissions; rather, include any information that might appear in a cover letter in the comments themselves. Similarly, to the extent possible, please include any exhibits, annexes, or other attachments in the same file as the submission itself, not as separate files.

USTR strongly urges submitters to file comments through http://www.regulations.gov, if at all possible. Any alternative arrangements must be made with Yvonne Jamison in advance of transmitting a comment. Ms. Jamison should be contacted at (202) 395-3475. General information concerning USTR is available at http://www.ustr.gov.

Public Inspection of Submissions

Comments will be placed in the docket and open to public inspection, except business confidential information. Comments may be viewed on the http://www.regulations.gov Web site by entering the relevant docket number in the search field on the home page.

Edward Gresser,
Acting Chair, Trade Policy Staff Committee.

[FR Doc. 2015-11069 Filed 5-7-15; 8:45 am]

BILLING CODE 3290-F5-P